DEPARTMENT OF THE INTERIOR

Office of the Secretary

[22XD4523WC; DS68664000; DWCFO0000.000000; DQ.QSO4A.22WD0000; OMB Control Number 1084-0033]

Agency Information Collection Activities; Private Rental Survey

AGENCY: Office of the Secretary, Office of Acquisition and Property Management, Interior.

ACTION: Notice of information collection; request for comment.

SUMMARY: In accordance with the Paperwork Reduction Act of 1995, we, the Office of Acquisition and Property Management, Office of the Secretary, Department of the Interior are proposing to renew an information collection.

DATES: Interested persons are invited to submit comments on or before October 11, 2022.

ADDRESSES: Send your comments on this information collection request (ICR) by mail to Laura Walters, Quarters Rental Program Manager, Interior Business Center, 7301 W Mansfield Ave, MS D-2910, Denver, CO 80235, or fax 303-969-6336, or by email to laura_a_walters@ibc.doi.gov. Please reference Office of Management and Budget (OMB) Control Number 1084-0033 in the subject line of your comments.

FOR FURTHER INFORMATION CONTACT: To request additional information about this ICR, contact Laura Walters, Quarters Rental Program Manager, Interior Business Center, 7301 W Mansfield Ave, MS D-2910, Denver, CO 80235, or fax 303-969-6336, or by email to laura_a_walters@ibc.doi.gov.

Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Title 5 of the U.S. Code section 5911 authorizes Federal agencies to provide housing for Government employees under specified circumstances. In compliance with OMB Circular A-45 (Revised), Rental and Construction of Government Housing, a review of private rental market housing rates is required at least once every 5 years to ensure that the rental, utility charges, and charges for related services to occupants of Government Furnished Housing (GFH) are comparable to corresponding charges in the private sector. To avoid unnecessary duplication and inconsistent rental rates, the Department of the Interior, Office of the Secretary, Interior Business Center (on behalf of the Office of Acquisition and Property Management), conducts housing surveys in support of employee housing management programs for the Departments of the Interior (DOI), Agriculture, Commerce, Homeland Security, Justice, Transportation, Health and Human Services, Veterans Affairs, and other agencies. In this survey, two collection forms are used for rental unit data: OS-2000 covering “Houses-Apartments-Mobile Homes,” and OS-2001 covering “Trailer Spaces.”

Respondents are typically property management companies or significant property owners in specific communities and are contacted by email or telephone. They may provide the rental unit information requested in OS-2000 and OS-2001 verbally, update rental data collected during a previous survey, enhance/complete rental data gathered from published sources, or provide lists of rental units they manage.

This collection of information provides data that is essential for DOI and the other Federal agencies to manage GFH in accordance with the requirements of OMB Circular A-45 (Revised). If this information were not collected from the public, DOI and the other Federal agencies providing GFH would be required to use professional real estate appraisals of private market rental costs, again, in accordance with OMB Circular A-45, but at an increased cost to the taxpayer.

Title of Collection: Private rental Survey.

OMB Control Number: 1084-0033.

Form Number: None.

Type of Review: Extension without change of a currently approved collection.

Respondents/Affected Public: Businesses and other for-profit institutions.

Total Estimated Number of Annual Respondents: 1,883.

Total Estimated Number of Annual Responses: OS-2000: 3,180; OS-2001: 359; Total: 3,539.

Estimated Completion Time per Response: 6 minutes for OS-2000 and 4 minutes for OS-2001.

Total Estimated Number of Annual Burden Hours: 342 hours.

Respondent's Obligation: Voluntary.

Frequency of Collection: Once per respondent every fourth year. Three or four of 16 total survey regions are surveyed every year. Therefore, a respondent or business may potentially be surveyed every fourth year if the exact same unit is surveyed again four years later. In addition, if an individual respondent or business is a significant rental property manager or rental property owner in the community, they may provide multiple responses in the same survey. Approximately 63% of respondents furnish more than one rental unit (OS-2000 and OS-2001). About 60% of respondents validate published data (tax records, advertisement, etc.), 30% update their previous survey data, and 10% furnish a new OS-2000 or OS-2001. Participation is optional.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2022-17268 Filed 8-10-22; 8:45 am]

BILLING CODE 4334-63-P